DEPARTMENT OF ENERGY

Federal Energy Regulatory Commission

[Project No. 2069-007]

Notice of Incorporation of Documents Into the Record of the Proceeding for Project No. 2069-007

April 30, 2003.

Take notice that the following documents are incorporated into the record of the proceeding for Project No. 2069-007.

(1) Unequivocal statement of intent to file an application for new license by Arizona Public Service Company, FERC Project No. 2069, volumes 1-7, Arizona Public Service Company (APS), December 1989, filed on December 27, 1989.

(2) Application for new license for major project—existing dam Childs & Irving Hydroelectric Project, FERC Project No. 2069, volumes I-IV, Arizona Public Service Company, December 1992 (volumes I-III) and July 1993 (vol. IV), filed on December 18, 1992, and July 9, 1993, respectively.

(3) New fish habitat curves for Fossil Creek, re: relicensing of Childs-Irving Project (P-2069), filed on January 21, 1994.

(4) Scoping document 2, Childs Irving Hydroelectric Project environmental assessment, FERC Project No. 2069-003, Office of Hydropower Licensing, FERC, and Coconino National Forest, U.S. Forest Service (USFS), issued on August 17, 1994.

(5) Coconino National Forest land and resource management plan, dated August 1987, filed by the USFS on October 24, 1994.

(6) Velocity-discharge data for Fossil Creek, filed by CH2M Hill on June 29, 1995.

(7) Draft environmental assessment for hydropower license, Childs Irving Project, FERC Project No. 2069-003, Arizona. Division of Licensing and Compliance, Office of Hydropower Licensing, FERC and Beaver Creek Ranger District, Coconino National Forest, U.S. Department of Agriculture, issued August 14, 1997.

(8) Comments of John Malusa on draft environmental assessment, filed on September 15, 1997.

(9) Comments of the USFS on draft environmental assessment, filed by the Southwestern Region of USFS, Albuquerque, New Mexico, filed on September 26, 1997.

(10) Natural geochemical evolution of a travertine depositing spring: Fossil Springs, Arizona, December 1997, John Malusa, Northern Arizona University, filed by the USFS on November 12, 1997.

(11) Childs & Irving biological report, September 1998, EnviroNet, Inc., Phoenix, Arizona, filed by APS on September 11, 1998.

(12) Fossil Creek hydrology & travertine geomorphology, June 25, 1998, W.L. Bouchard & Associates, Inc., Phoenix, Arizona, filed by APS on September 11, 1998.

(13) Peregrine falcon potential nesting habitat APS Childs & Irving Hydroelectric Plants, Fossil Creek, Arizona, August 1998, EnviroNet, Inc., Phoenix, Arizona, filed by APS on September 11, 1998.

(14) Childs & Irving biological report—razorback sucker, October 1998, EnviroNet, Inc., Phoenix, Arizona, filed by APS on November 2, 1998.

(15) Review of Childs and Irving biological report—razorback sucker, October 1998, February 1999, Jerome A. Stefferud, filed by the USFS on February 5, 1999.

(16) APS and Tonto National Forest submittals of “Fossil Creek Flood Peaks, Current, Natural and Degraded Watershed Conditions,” by Grant Loomis, dated October 1994, filed on July 23, 1999, and September 24, 1999, respectively.

(17) Additional comments on travertine deposition estimates—Fossil Creek, Arizona, September 1999, Steven T. Overby and Daniel Neary, Rocky Mountain Research Station, USFS, Flagstaff, Arizona, filed by USFS on September 13, 1999.

(18) Tonto National Forest land and resource management plan, dated October 1985, filed by the USFS on September 24, 1999.

(19) Submission of additional information from Professor W.L. Minckley, Department of Biology, Arizona State University, characterizing the existing native fish assemblage and the unprecedented opportunity to restore full flows for native fish restoration of Fossil Creek; Childs-Irving Hydroelectric Project, FERC Project No. 2069-003, Arizona, filed by the Southwest Regional Office of American Rivers, Phoenix, Arizona, on November 9, 1999.

(20) Submission of additional information from John Malusa, hydrologist, identifying inaccuracies of the APS report titled “Fossil Creek Hydrology & Travertine Geomorphology,” and further characterizing the travertine deposition and erosion rates along Fossil Creek, Childs Irving Hydroelectric Project, Southwest Regional Office, American Rivers, Phoenix, Arizona, filed by American Rivers on December 21, 1999.

(21) USFS update on its involvement with the settlement discussions, filed on June 12, 2000.

(22) USFS comments on settlement agreement, filed on September 27, 2000.

(23) U.S. Fish and Wildlife Service comments on settlement agreement, filed on October 23, 2000.

(24) USFS follow-up comments on settlement agreement, including minutes of meeting of fisheries biologists re: Fossil Creek (Childs/Irving), dated May 24, 2000; and a preliminary analysis of effects of Fossil Springs dam removal alternatives on riparian habitat and special status species, dated October 23, 2000, by C. Overby and J. Agyagos, filed on October 24, 2000.

(25) Summary of January 10, 2001, technical conference, issued on February 8, 2001.

(26) Declaratory Order, issued on December 20, 2001.

For further information, please contact Dianne Rodman at (202) 502-6077.

Magalie R. Salas,
Secretary.

[FR Doc. 03-11123 Filed 5-5-03; 8:45 am]

BILLING CODE 6717-01-P